DEPARTMENT OF COMMERCE

National Oceanic and Atmospheric Administration

50 CFR Part 648

[Docket No. 241212-0326; RTID 0648-XF232]

Fisheries of the Northeastern United States; Atlantic Herring Fishery; Adjustment to the 2025 Specifications

AGENCY: National Marine Fisheries Service (NMFS), National Oceanic and Atmospheric Administration (NOAA), Commerce.

ACTION: Temporary rule; inseason adjustment.

SUMMARY: NMFS increases the 2025 Atlantic herring annual catch limit and Area 1A sub-annual catch limit by 1,000 metric tons (mt) for the remainder of 2025. This action is required by the herring regulations when, based on data through October 1, 2025, NMFS determines that the New Brunswick weir fishery has landed less than 2,722 mt of herring. This notification informs the public of these catch limit changes.

DATES: Effective November 17, 2025 through December 31, 2025.

FOR FURTHER INFORMATION CONTACT: Ashley Trudeau, Fishery Resource Management Specialist, (978) 281-9252, ashley.trudeau@noaa.gov.

SUPPLEMENTARY INFORMATION: NMFS published final 2025 specifications for the Atlantic Herring Fishery Management Plan on December 18, 2024 (89 FR 103695), establishing the 2025 annual catch limit (ACL) and area sub-ACLs. Table 1 shows the current herring specifications for 2025, and the specifications as revised by this action for the remainder of the calendar year.

The NMFS Regional Administrator tracks herring landings in the New Brunswick weir fishery each year. The regulations at 50 CFR 648.201(h) require that if the New Brunswick weir fishery landings through October 1 are determined to be less than 2,722 mt, then NMFS subtracts 1,000 mt from the management uncertainty buffer and reallocates that amount to the ACL and Area 1A sub-ACL. When such a determination is made, NMFS is required to notify the New England Fishery Management Council and publish the ACL and Area 1A sub-ACL adjustment in the Federal Register.

Information from Canada's Department of Fisheries and Oceans indicates that the New Brunswick weir fishery landed 1,223 mt of herring through October 1, 2025. Therefore, the Regional Administrator determined that, effective November 17, 2025, 1,000 mt will be reallocated from the management uncertainty buffer to the Area 1A sub-ACL and the ACL. This 1,000 mt reallocation increases the Area 1A sub-ACL from 783 mt to 1,783 mt and the ACL from 2,710 mt to 3,710 mt for the remainder of 2025.

Additionally, NMFS will use the adjusted allocations when it projects whether catch from Area 1A will reach 92 percent of the Area 1A sub-ACL, or whether overall herring catch will reach 95 percent of the ACL. When Area 1A catch is projected to reach 92 percent of the Area 1A sub-ACL, catch from this area is reduced to 2,000 pounds (lb; 907.2 kilograms (kg)) of herring per trip, per calendar day. When overall catch is projected to reach 95 percent of the ACL, then catch in or from all herring management areas is limited to 2,000 lb (907.2 kg) of herring per trip, per calendar day.

Table 1—Atlantic Herring Specifications for 2025
| Current specifications (mt) | Adjusted specifications (mt)
Overfishing Limit | 18,273 | 18,273
Acceptable Biological Catch | 6,741 | 6,741
Management Uncertainty | 4,031 | 3,031
Optimum Yield/ACL | 2,710 | 3,710
Domestic Annual Harvest | 2,710 | 3,710
Border Transfer | 0 | 0
Domestic Annual Processing | 2,710 | 3,710
U.S. At-Sea Processing | 0 | 0
Area 1A Sub-ACL (28.9 percent) | 783 | 1,783
Area 1B Sub-ACL (4.3 percent) | 117 | 117
Area 2 Sub-ACL (27.8 percent) | 753 | 753
Area 3 Sub-ACL (39 percent) | 1,057 | 1,057
Fixed Gear Set-Aside | 30 | 30
Research Set-Aside | 0% | 0%

The New England Fishery Management Council recommended, and NMFS proposed new 2025-2027 Atlantic herring specifications (FR 90 26955, June 25, 2025). If NMFS implements the new specifications, NMFS will reevaluate the 2025 ACL and Area 1A sub-ACL through the final action for the specifications.

Classification

NMFS issues this action pursuant to section 305(d) of the Magnuson-Stevens Act. This action is required by 50 CFR part 648, which was issued pursuant to section 304(b), and is exempt from review under Executive Order 12866.

The Assistant Administrator for Fisheries, NOAA, finds good cause under 5 U.S.C. 553(b)(B) to waive prior notice and the opportunity for public comment on this inseason adjustment because it would be unnecessary and contrary to the public interest. This action allocates a portion of the management uncertainty buffer to the ACL and Area 1A sub-ACL for the remainder of the calendar year pursuant to a previously published regulation that provides no discretionary decision-making. This reallocation process was the subject of prior notice and comment rulemaking. The adjustment is routine and formulaic, required by regulation, and is expected by industry. The potential to reallocate the management uncertainty buffer was also outlined in the 2023-2025 herring specifications that were published March 23, 2023 (88 FR 17397). Further, this reallocation provides additional economic opportunity for the herring fleet. If implementation of this action is delayed to solicit public comment, the objective of the fishery management plan to achieve optimum yield in the fishery could be compromised. Deteriorating weather conditions during the latter part of the year may reduce fishing effort and could also prevent the ACL from being fully harvested. This would result in a negative economic impact on vessels permitted to fish in this fishery. Based on these considerations, NMFS further finds, pursuant to 5 U.S.C. 553(d)(3), good cause to waive the 30-day delayed effectiveness period for the reasons stated above.

Authority: 16 U.S.C. 1801 et seq.

Dated: November 14, 2025.
Kelly Denit,
Director, Office of Sustainable Fisheries, National Marine Fisheries Service.

[FR Doc. 2025-20206 Filed 11-17-25; 8:45 am]

BILLING CODE 3510-22-P